DEPARTMENT OF HOMELAND SECURITY

Bureau of Customs and Border Protection

DEPARTMENT OF THE TREASURY

19 CFR Parts 111, 113, 141, 142 and 143

[USCBP-2006-0001]

RIN 1505-AB20

Remote Location Filing

AGENCIES: Customs and Border Protection, Department of Homeland Security; Department of the Treasury.

ACTION: Notice of proposed rulemaking.

SUMMARY: This document proposes to amend title 19 of the Code of Federal Regulations to set forth provisions implementing Remote Location Filing (RLF). The proposed changes implement the terms of section 414 of the Tariff Act of 1930, as added by section 631 within the Customs Modernization provisions of the North American Free Trade Agreement Implementation Act, and would allow a RLF filer to electronically file with CBP those entries and related information that CBP can process in a completely electronic data interchange system from a location other than where the goods will arrive.

DATES: Comments must be received on or before May 22, 2007.

ADDRESSES: You may submit comments, identified by docket number, by one of the following methods:

• Federal eRulemaking Portal: http://www.regulations.gov. Follow the instructions for submitting comments via docket number USCBP 2006-0001.

• Mail: Trade and Commercial Regulations Branch, Bureau of Customs and Border Protection, 1300 Pennsylvania Avenue, NW. (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Trade and Commercial Regulations Branch, Bureau of Customs and Border Protection, 799 9th Street, NW., 5th Floor, Washington, DC. Arrangements to inspect submitted comments should be made in advance by calling Joseph Clark at (202) 572-8768.

FOR FURTHER INFORMATION CONTACT: For systems or automation issues: Tony Casucci at (202) 772-2041 or Jennifer Engelbach at (562) 366-5593. For operational or policy issues: Marla Bianchetta at (202) 344-2693 or via e-mail at remote.filing@dhs.gov.

SUPPLEMENTARY INFORMATION:

Public Participation

Interested persons are invited to participate in this rulemaking by submitting written data, views, or arguments on all aspects of the proposed rule. The Bureau of Customs and Border Protection (CBP) also invites comments that relate to the economic, environmental, or federalism effects that might result from this proposed rule. If appropriate to a specific comment, the commenter should reference the specific portion of the proposed rule, explain the reason for any recommended change, and include data, information, or authority that support such recommended change.

Background

This document proposes changes to the CBP regulations to provide for Remote Location Filing. Remote Location Filing (RLF) is currently allowed through National Customs Automation Program (NCAP) testing.

The National Customs Automation Program (NCAP)

Title VI of the North American Free Trade Agreement Implementation Act (the Act), Public Law 103-182, 107 Stat. 2057 (December 8, 1993), contains provisions pertaining to Customs Modernization (107 Stat. 2170). Subpart B of title VI of the Act concerns the National Customs Automation Program (NCAP), an electronic system for the processing of commercial importations. Within subpart B, section 631 of the Act added sections 411 through 414 to the Tariff Act of 1930 (19 U.S.C. 1411-1414). These sections: define the NCAP, provide for the establishment of and participation in the NCAP and include a list of existing and planned components (section 411); list the NCAP goals (section 412); provide for the implementation and evaluation of the NCAP (section 413); and, provide for Remote Location Filing (RLF) (section 414). One of the planned NCAP components listed in section 411 is the electronic filing (including RLF under section 414) of entry information with Customs (now “CBP”). See 19 U.S.C. 1411(a)(2)(B).

Description of Remote Location Filing Prototype Program

RLF is intended to permit electronic filing of an entry of merchandise with CBP from a location other than where the goods will arrive or the district designated in the entry for examination (a “remote location”). See section 414(a)(1).

As a key part of the NCAP entry filing component, RLF is intended to conform CBP practices to trade business processes. By using electronic filing, RLF is intended to reduce paperwork that is costly to create, review and store. RLF is also intended to enable a customs broker with a national permit to serve several port locations without the cost of maintaining multiple offices.

Section 413(b) of the Act provides for the implementation, testing and evaluation of the NCAP and requires that the Secretary of the Treasury consult with the trade community, including importers, customs brokers, shippers, and other affected parties, in the development, implementation and evaluation of the NCAP program and its components. In accordance with this section, CBP has held public meetings on RLF since June, 1994, and has tested the RLF concept via prototypes since 1995. CBP continues to provide RLF information and updates on the Automated Broker Interface (ABI) Administrative Message System and on the CBP Internet Web site located at http://www.cbp.gov (type in the search term “Remote Location Filing”).

RLF prototypes have been tested in accordance with § 101.9(b) of title 19 of the Code of Federal Regulations (19 CFR 101.9(b)), which provides for the testing of NCAP components. A chronological listing of Federal Register publications detailing developments in the RLF prototypes follows:

• On April 6, 1995, CBP announced in the Federal Register (60 FR 17605) its plan to conduct the first of at least two RLF test prototypes. The first RLF test, designated Prototype One, began on June 19, 1995.

• On February 27, 1996, CBP announced in the Federal Register (61 FR 7300) the expansion of Prototype One and its extension until the implementation of RLF Prototype Two.

• RLF Prototype Two commenced on January 1, 1997. See document published in the Federal Register (61 FR 60749) on November 29, 1996.

• CBP announced in the Federal Register (62 FR 64043), on December 3, 1997, the extension of RLF Prototype Two until December 31, 1998.

• On December 7, 1998, CBP announced in the Federal Register (63 FR 67511) that Prototype Two would remain in effect until concluded by notice in the Federal Register.

• On July 6, 2001, CBP announced in the Federal Register (66 FR 35693) changes to the RLF Prototype Two eligibility requirements.

• On November 16, 2001, CBP announced in the Federal Register (66 FR 57774) a deadline extension for customs brokers participating in RLF to submit their national broker permit numbers to CBP.

• On February 25, 2003, CBP announced in the Federal Register (68 FR 8812) that line release entries would no longer be permitted for purposes of RLF Prototype Two, and set forth a comprehensive and updated list of current RLF eligibility requirements and a description of a new simplified application process.

• On March 31, 2005, CBP announced in the Federal Register (70 FR 16510) that RLF will now be permitted for cargo that will be moved using immediate transportation (IT) and transportation and export (T & E) in-bond procedures.

In accordance with section 413(b), CBP has evaluated the RLF prototype and determined it to be successful in meeting the NCAP objectives stated above. For this reason, CBP is proposing to implement on a permanent basis the RLF regulatory provisions described in this document. These provisions were developed on the basis of section 414, the operational experiences garnered by RLF prototype tests, and other CBP initiatives such as the Automated Commercial Environment (ACE) and Trade Compliance Redesign.

CBP intends to terminate the existing RLF prototype at such time as a final rule adopting these proposals is in effect. Until such time, RLF prototype participants may continue to participate in the test program. All current RLF prototype participants meet the requirements for RLF filing proposed in this document. No formal application process is proposed.

RLF-Operational CBP Locations

An RLF filer may electronically transmit an entry filing from a remote location, other than where the goods will arrive, to an RLF-operational CBP location.

If the proposed RLF regulations set forth in this document are adopted as a final rule, the CBP locations that have been identified as operational for RLF purposes under Prototype Two will continue to serve in this capacity. In addition, CBP intends to have all service ports, as defined in § 101.1 of title 19 of the CFR (19 CFR 101.1) and listed in § 101.3(b)(2) (19 CFR 101.3(b)(2)), RLF-operational prior to the effective date of any final action on these regulatory proposals. It is also anticipated that if sufficient trade interest exists, and CBP deems it appropriate, other ports of entry will become RLF-operational once final regulations are in place. Announcements of new locations will be placed on the Automated Broker Interface (ABI) Administrative Message System and a list of all RLF-operational locations is available for viewing on the CBP Internet Web site located at http://www.cbp.gov (type in the search term “Remote Location Filing”).

Explanation of Amendments

This document proposes a regulatory framework for RLF in a new subpart E to part 143 and proposes to amend, where necessary, those aspects of the existing CBP regulations that are impacted by RLF. The proposed changes, other than those involving minor wording or other editorial changes, are discussed below in more detail.

New Subpart E to Part 143—Regulatory Framework for RLF

CBP proposes to set the regulatory framework for RLF in a new subpart E to Part 143 as follows:

Subpart E to Part 143—Remote Location Filing

Section 143.41

Proposed new § 143.41 provides that subpart E sets forth the general requirements and procedures for RLF, and that RLF entries remain subject to the documentation, document retention, and document retrieval requirements of this chapter as well as the general entry requirements of parts 141, 142 and 143. Proposed § 143.41 further provides that use of the RLF system is voluntary.

Section 143.42

Proposed new § 143.42 sets forth definitions for purposes of subpart E to part 143, as well as providing that the definitions set forth in § 143.32 also apply to subpart E.

Section 143.43

Proposed new § 143.43 sets forth the eligibility criteria for participation in RLF.

Section 143.44

Proposed new § 143.44 sets forth the procedures for RLF.

Section 143.45

Proposed new § 143.45 prescribes the filing of additional entry information in a RLF context.

Proposed Amendments to Existing Regulations

Section 111.2(b)(2)(i)(C)

Section 111.2 prescribes when a license and district permit are required. Paragraph (b)(2)(i)(C) sets forth an exception to the district permit rule and states, in pertinent part, that a national permit issued to a broker under 19 CFR 111.19(f) will constitute sufficient permit authority for the broker to act as a NCAP participant who may electronically file entries for merchandise from a remote location.

In this document, it is proposed to amend § 111.2(b)(2)(i)(C) to clarify that a broker holding a national permit may electronically file entries for merchandise from a remote location so long as the terms set forth in the RLF regulations (19 CFR subpart E to part 143) have been met.

Section 113.62(j)(1)

Section 113.62(j)(1) covers the agreement of a principal to comply with electronic entry filing requirements and in this regard refers specifically to subpart D of part 143.

As a consequence of the proposal to add a new subpart E to part 143 to cover RLF, it is proposed to amend paragraph (j)(1) by removing the limiting reference to “subpart D” so that the bond conditions will apply equally to the RLF provisions of proposed subpart E.

Section 141.18(a)

Section 141.18 of title 19 of the CFR (19 CFR 141.18) concerns entry by nonresident corporations. Section 141.18(a) provides that the corporation cannot enter merchandise for consumption unless it has a resident agent in the State where the port of entry is located who is authorized to accept service of process against the corporation.

In order to accommodate the proposed RLF regulations, this document proposes to amend § 141.18(a) to provide that, for RLF purposes, a nonresident corporation must have a resident agent authorized to accept service of process against that corporation either in the State where the port of entry is located or in the State from which the remote location filing originates.

Section 141.61(a) and (b)

Section 141.61 of title 19 of the CFR (19 CFR 141.61) concerns the completion of entry and entry summary documentation. Paragraph (a)(1) provides that entry and entry summary documentation must “be prepared on a typewriter, or with ink, indelible pencil, or other permanent medium,” that an entry summary shall be signed by the importer (see § 101.1 of this chapter)” and that entries, entry summaries and accompanying documentation must be on the appropriate forms specified by the regulations, must clearly set forth all required information and must be legible.

This document proposes to amend paragraph (a)(1) by exempting electronic entry from these requirements and including language, currently set forth in paragraph (b) of this section, which pertains to “signing of the entry” as this is also only relevant to non-electronic filings. It is also proposed to remove obsolete language set forth in § 141.61(b) which provides that the signing of the consignee's declaration, in certain instances, is regarded as satisfying 19 U.S.C. 1484(d).

Insofar as the regulations set forth in subpart D of part 143 provide for the entry of merchandise processed electronically, and the RLF regulations proposed in this document as new subpart E to part 143 also involve electronic filing of entry and entry summary documentation, it is proposed to create a new paragraph (a)(2) which sets forth the manner by which electronic entry and entry summary documentation are to be prepared. To this end, it is proposed to set forth language stating that electronic entry and entry summary documentation must contain the information required by this section, and must be certified by the importer of record or his duly authorized agent, one of whom must be resident in the United States for purposes of receiving service of process, as being true and correct to the best of his knowledge. If certified, the electronic documentation is binding in the same manner and to the same extent as signed documents.

It is further proposed to redesignate existing paragraph (a)(2), which pertains to marks and numbers, as new paragraph (b).

Section 141.63(c)

Section 141.63 of title 19 of the CFR (19 CFR 141.63) concerns the submission of entry summary documentation for preliminary review. Paragraph (c) covers merchandise entered other than at the port of arrival. Specifically, paragraph (c) provides that if merchandise is to arrive or has arrived at one port and the importer wishes to file his entry documentation at another port to which the merchandise is destined, he may do so upon approval of the port director at the port of destination. The director of the destination port may then authorize release of the merchandise, after its importation at the port of arrival, or postpone its release if he believes it is necessary for examination or other purposes.

Paragraph (c) was added to the CBP regulations in 1987 to cover “PAIRED” (“Port of Arrival Immediate Release and Enforcement Determination”) entries. See, T.D. 87-78 (52 FR 24153, June 29, 1987). The legislative history relating to section 631 of the Act (House Report No. 103-361(I), page 127) explicitly states Congress' intent to discontinue “PAIRED” entries upon implementation of the RLF part of the entry filing component of NCAP. Accordingly, it is proposed to remove § 141.63(c) from the regulations.

Section 141.86(h)

Section 141.86 of title 19 of the CFR (19 CFR 141.86) covers the contents of invoices and other general invoice requirements. Paragraph (h) sets forth standards for the numbering of invoices and pages. Specifically, paragraph (h)(1) requires that when more than one invoice is included in the same entry, each invoice with its attachments must be numbered consecutively by the importer on the bottom of the face of each page, beginning with No. 1. Paragraph (h)(2) requires that if the invoice or invoices filed with one entry consist of more than two pages, each page must be numbered consecutively by the importer on the bottom of the face of each page. The page numbering must begin with No. 1 for the first page of the first invoice and continue in a single series of numbers through all the invoices and attachments included in one entry. Paragraph (h)(3) covers both the numbering of invoices and multiple-page invoices and requires that, when applicable, both the invoice number and the page number must be shown at the bottom of each page.

The proposed RLF regulations set forth in this document, as well as the existing provisions for electronic entry filing set forth in subpart D of part 143, provide for the electronic transmission and processing of entries. In consideration of the fact that these electronic procedures may not allow a RLF filer to number the invoices and pages in conformity with § 141.86(h), it is proposed to revise § 141.86(h) to exclude electronic transmissions of invoice data made pursuant to the terms set forth in part 143 from these invoice numbering requirements.

Section 141.90(b) and (d)

Section 141.90 of title 19 of the CFR (19 CFR 141.90) concerns the notation of tariff classification, rate of duty and value on invoices. Paragraph (b) requires that the appropriate tariff subheading number and rate of duty be noted by the importer in the left-hand portion of the invoice next to the articles to which they apply. Paragraph (d) provides that all notations made on an invoice by the importer or broker must be in blue or black ink.

It is proposed to revise § 141.90(b) and (d) to except from these requirements those invoices that are submitted electronically pursuant to the terms set forth in part 143.

Section 142.3(a)

Section 142.3 of title 19 of the CFR (19 CFR 142.3) sets forth the entry documentation required to secure the release of merchandise. Paragraph (a) identifies different types of entry documentation. Paragraph (b) identifies the entry documentation that is required when entry summary is filed at the time of entry. Paragraph (c) states that the port director may require additional copies of the documentation.

As the regulations set forth in existing subpart D and proposed subpart E to part 143 provide for the electronic transmission of entry documentation, it is proposed to amend § 142.3 by adding a new paragraph (d) which sets forth that the entry documentation identified in this section may be submitted to CBP in either a paper or an electronic format.

Section 143.0

Section 143.0 of title 19 of the CFR (19 CFR 143.0) identifies the scope of part 143 as setting forth the requirements and procedures for participation in ABI and for the clearance of imported merchandise under appraisement and informal entries as well as under electronic entry filing, which are in addition to the general requirements and procedures for all entries set forth in part 141 of this chapter.

It is proposed that § 143.0 be amended to include reference to the fact that RLF requirements and procedures are included within part 143.

Section 143.32

Section 143.32 of title 19 of the CFR (19 CFR 143.32) sets forth definitions for purposes of subpart D of this chapter.

This document proposes to amend § 143.32 by stating that the definitions also apply, where applicable, for purposes of subpart E of this chapter. It is also proposed to add a definition for “Electronic Invoice Program” (EIP), which refers to modules of the Automated Broker Interface (ABI) that allow entry filers to transmit detailed invoice data and includes Automated Invoice Interface (AII), as well as any other electronic invoice authorized by CBP.

Comments

Before adopting this proposal as a final rule, consideration will be given to any written comments timely submitted to CBP, or transmitted via e-mail to http://www.regulations.gov., including comments on the clarity of this proposed rule and how it may be made easier to understand. Comments submitted will be available for public inspection in accordance with the Freedom of Information Act (5 U.S.C. 552) and § 103.11(b) of title 19 of the CFR (19 CFR 103.11(b)), on regular business days between the hours of 9 a.m. and 4:30 p.m. at the Trade and Commercial Regulations Branch, Office of International Trade, Customs and Border Protection, 799 9th St., NW., Washington, DC. Arrangements to inspect submitted documents should be made in advance by calling Joseph Clark at (202) 572-8768.

The Regulatory Flexibility Act and Executive Order 12866

Because these proposed amendments implement a voluntary program provided for by statute, and will have the effect of streamlining the entry process and reducing the overall regulatory burden on the general public, pursuant to the provisions of the Regulatory Flexibility Act, 5 U.S.C. 601 et seq., it is certified that, if adopted, the proposed amendments will not have a significant economic impact on a substantial number of small entities. Further, these proposed amendments do not meet the criteria for a “significant regulatory action” as specified in E.O. 12866.

Paperwork Reduction Act

As there are no new collections of information proposed in this document, the provisions of the Paperwork Reduction Act of 1995 (44 U.S.C. 3507) are inapplicable.

Signing Authority

This document is being issued in accordance with 19 CFR 0.1(a)(1).

List of Subjects

19 CFR Part 111

Administrative practice and procedure, Brokers, Customs duties and inspection, Imports, Licensing, Reporting and recordkeeping requirements.

19 CFR Part 113

Customs duties and inspection, Imports, Reporting and recordkeeping requirements, Surety bonds.

19 CFR Part 141

Customs duties and inspection, Entry of merchandise, Invoices, Release of merchandise, Reporting and recordkeeping requirements.

19 CFR Part 142

Customs duties and inspection, Forms, Reporting and recordkeeping requirements.

19 CFR Part 143

Automated Broker Interface (ABI), Computer technology (Electronic entry filing), Customs duties and inspection, Entry of merchandise, Invoice requirements, Reporting and recordkeeping requirements.

Proposed Amendments to the Regulations

For the reasons stated above, it is proposed to amend title 19 of the Code of Federal Regulations (19 CFR parts 111, 113, 141, 142 and 143) as set forth below.

PART 111—CUSTOMS BROKERS

1. The general authority citation for part 111 continues to read as follows:

Authority: 19 U.S.C. 66, 1202 (General Note 3(i), Harmonized Tariff Schedule of the United States), 1624, 1641.

* * * * *

2. Section 111.2(b)(2)(i)(C) is revised to read as follows:

§ 111.2 License and district permit required.

* * * * *

(b) * * *

(2) * * *

(i) * * *

(C) Electronic filing. A broker may electronically file entries for merchandise from a remote location, pursuant to the terms set forth in subpart E to part 143 of this chapter, and may electronically transact other customs business even though the entry is filed, or other customs business is transacted, within a district for which the broker does not have a district permit; and

* * * * *

PART 113—CUSTOMS BONDS

3. The general authority citation for part 113 continues to read as follows:

Authority: 19 U.S.C. 66, 1623, 1624.

* * * * *

4. In § 113.62, paragraph (j)(1) is amended by removing the reference “, subpart D,” and by removing the words “that subpart” and adding in their place the words, “part 143”.

PART 141—ENTRY OF MERCHANDISE

5. The general authority citation for part 141 is revised, and the specific authority citations for subparts F and G and §§ 141.68 and 141.90 continue to read as follows:

Authority: 19 U.S.C. 66, 1414, 1448, 1484, 1624.

Subpart F also issued under 19 U.S.C. 1481; Subpart G also issued under 19 U.S.C. 1505;

* * * * *

Section 141.68 also issued under 19 U.S.C. 1315;

* * * * *

Section 141.90 also issued under 19 U.S.C. 1487;

* * * * *

6. In § 141.18:

a. The introductory sentence is amended by removing the word “Customs” and adding in its place the word “customs”, and by removing the word “shall” and adding in its place the word “may”;

b. Paragraph (a) is revised; and

c. Paragraph (b) is amended by removing the word “Customs” and adding in its place the term “CBP”.

The revision reads as follows:

§ 141.18 Entry by nonresident corporation.

* * * * *

(a) Has a resident agent in the State where the port of entry is located who is authorized to accept service of process against that corporation or, in the case of an entry filed from a remote location pursuant to subpart E of part 143 of this chapter, has a resident agent authorized to accept service of process against that corporation either in the State where the port of entry is located or in the State from which the remote location filing originates; and

* * * * *

7. In § 141.61:

a. Paragraphs (a) and (b) are revised;

b. Paragraph (c) is amended, in the first sentence, by removing the word “shall” and adding in its place the word “must”, and; in the second sentence, by removing the word “shall” and adding in its place the word “will”;

c. Paragraph (d) is amended by removing the word “shall” each place that it appears and adding the word “must”, and by removing the words “Customs Form” each place they appear and adding the words “CBP Form”;

d. Paragraph (e) is amended: in paragraphs (e)(1) through (e)(3), by removing the word “shall” each place that it appears and adding the word “must”, and by removing the words “Customs Form” each place they appear and adding the words “CBP Form”; in paragraph (e)(4), by removing the word “shall” and adding in its place the word “will” and by removing the word “Customs” and adding in its place the term “CBP”; and, in paragraph (e)(5), by removing the word “shall” and adding in its place the word “will”; and

e. Paragraph (f) is amended: in paragraph (f)(1), by removing the word “shall” and adding in its place the word “must”; in paragraph (f)(1)(iv), by removing, in the second sentence, the words “shall represent” and adding in their place the words “must represent”; and, in the third sentence, by removing the word “shall” and adding in its place the word “must” and by removing the word “Customs” each place that it appears and adding the term “CBP”; in paragraph (f)(2)(i), by removing the word “shall” each place that it appears and adding the word “must” and by removing the word “Customs” and adding in its place the term “CBP”; in paragraph (f)(2)(ii), by removing, in the first sentence, the word “shall” and adding in its place the word “must”, by removing in the second sentence the words “shall represent” and adding in their place the words “must represent”; and, in the third sentence, by removing the word “shall” and adding in its place the word “must”; and, in paragraphs (f)(2)(iii) and (f)(2)(iv), by removing the word “shall” each place that it appears and adding the word “must”.

The revision reads as follows:

§ 141.61 Completion of entry and entry summary documentation.

(a) Preparation—(1) Paper entry and entry summary documentation. Except when entry and entry summary documentation is filed with CBP electronically pursuant to the provisions of part 143 of this chapter:

(i) Such documentation must be prepared on a typewriter (keyboard), or with ink, indelible pencil, or other permanent medium, and all copies must be legible;

(ii) The entry summary must be signed by the importer (see § 101.1 of this chapter); and

(iii) Entries, entry summaries, and accompanying documentation must be on the appropriate forms specified by the regulations and must clearly set forth all required information.

(2) Electronic entry and entry summary documentation. Entry and entry summary documentation that is filed electronically pursuant to part 143 of this chapter must contain the information required by this section and must be certified (see §§ 143.35 and 143.44 of this chapter) by the importer of record or his duly authorized agent, one of whom must be resident in the United States for purposes of receiving service of process, as being true and correct to the best of his knowledge. A certified electronic transmission is binding in the same manner and to the same extent as a signed document.

(b) Marks and numbers previously provided. An importer may omit from entry summary (CBP Form 7501) the marks and numbers previously provided for packages released or withdrawn.

* * * * *

8. In § 141.63:

a. Paragraphs (a)(2) and (b) are amended by removing the word “shall” each place that it appears and adding the word “will”; and

b. Paragraph (c) is removed.

9. In § 141.68, paragraphs (a) through (h) are amended by removing the word “shall” each place that it appears and adding the word “will”, and by removing the word “Customs” each place that it appears and adding the term “CBP”.

10. In § 141.86:

a. Paragraphs (a) through (e) are amended by removing the word “shall” each place that it appears and adding the word “must”;

b. Paragraph (f) is amended by removing the word “shall” and adding in its place the word “must”, and by removing the word “Customs” and adding in its place the term “CBP”;

c. Paragraph (g) is amended by removing the word “shall” and adding in its place the word “must”;

d. Paragraph (h) is revised; and

e. Paragraph (j) is amended by removing the word “shall” and adding in its place the word “must”.

The revisions read as follows:

§ 141.86 Contents of invoices and general requirements.

* * * * *

(h) Numbering of invoices and pages. (1) Invoices. Except when electronic invoice data are transmitted to CBP under the provisions of part 143 of this chapter, when more than one invoice is included in the same entry, each invoice with its attachments must be numbered consecutively by the importer on the bottom of the face of each page, beginning with No. 1.

(2) Pages. Except when electronic invoice data are transmitted to CBP under the provisions of part 143 of this chapter, if the invoice or invoices filed with one entry consist of more than two pages, each page must be numbered consecutively by the importer on the bottom of the face of each page, with the page numbering beginning with No. 1 for the first page of the first invoice and continuing in a single series of numbers through all the invoices and attachments included in one entry.

(3) Both invoices and pages. Except when electronic invoice data are transmitted to CBP under the provisions of part 143 of this chapter, both the invoice number and the page number must be shown at the bottom of each page when applicable. For example, an entry covering one invoice of one page and a second invoice of two pages must be paginated as follows:

Inv. 1, p. 1.

Inv. 2, p. 2.

Inv. 2, p. 3

* * * * *

11. In § 141.90:

a. Paragraph (b) is revised;

b. Paragraph (c) is amended by removing the word “shall” each place that it appears and adding the word “must” in its place and

c. Paragraph (d) is revised.

The revisions read as follows:

§ 141.90 Notation of tariff classification and value on invoice.

* * * * *

(b) Classification and rate of duty. The importer or customs broker must include on the invoice or with the invoice data the appropriate subheading under the provisions of the Harmonized Tariff Schedule of the United States (19 U.S.C. 1202) and the rate of duty for the merchandise being entered. Except when invoice line data are linked to an entry summary line and transmitted to CBP electronically under the provisions of part 143, that information must be noted by the importer or customs broker in the left-hand portion of the invoice, next to the articles to which they apply.

* * * * *

(d) Importer's notations in blue or black ink. Except when invoice line data are linked to an entry summary line and transmitted to CBP electronically under the provisions of part 143, all notations made on the invoice by the importer or customs broker must be in blue or black ink.

PART 142—ENTRY PROCESS

12. The authority citation for part 142 continues to read as follows:

Authority: 19 U.S.C. 66, 1448, 1484, 1624.

13. In § 142.3:

a. Paragraph (a) is amended by removing in the introductory sentence the word “shall” and adding in its place the word “must”; by removing in paragraph (a)(1) the word “Customs” each place that it appears and adding the term “CBP” and by removing the word “shall” and adding in its place the word “must”; by removing in paragraph (a)(5) the word “Customs” and adding in its place the term “CBP”; by removing in paragraph (a)(6) the word “shall” and adding in its place the word “must” and by removing the term “CF” and adding in its place the words “CBP Form”;

b. Paragraph (b) is revised; and

c. A new paragraph (d) is added.

The revision and addition read as follows:

§ 142.3 Entry documentation required.

* * * * *

(b) Entry summary filed at time of entry. When the entry summary is filed at time of entry in accordance with § 142.12(a)(1) or § 142.13:

(1) CBP Form 3461 or 7533 will not be required; and

(2) CBP Form 7501 or CBP Form 3311 (as appropriate, see § 142.11) may serve as both the entry and the entry summary documentation if the additional documentation set forth in paragraphs (a)(2), (3), (4) and (5) of this section and § 142.16(b) is filed.

* * * * *

(d) Electronic Format. The entry documentation identified in this section may be submitted to CBP in either a paper or, where appropriate, an electronic format.

PART 143—SPECIAL ENTRY PROCEDURES

14. The authority citation for part 143 is revised to read as follows:

Authority: 19 U.S.C. 66, 1414, 1481, 1484, 1498, 1624, 1641.

15. Section 143.0 is revised to read as follows:

§ 143.0 Scope.

This part sets forth the requirements and procedures for participation in the Automated Broker Interface (ABI), for the clearance of imported merchandise under appraisement and informal entries, and under electronic entry filing and under Remote Location Filing (RLF). All requirements and procedures set forth in this part are in addition to the general requirements and procedures for all entries set forth in part 141 of this chapter. More specific requirements and procedures are set forth elsewhere in this chapter; for example, part 145 concerns importations by mail and part 10 concerns merchandise conditionally free of duty or subject to a reduced rate.

16. In § 143.32, the introductory text and existing paragraphs (a), (b), (d) through (k), and (o) are revised to read as follows:

§ 143.32 Definitions.

The following are definitions for purposes of subparts D and E of this part:

(a) ACS. “ACS” means the Automated Commercial System and refers to CBP's integrated comprehensive tracking system for the acquisition, processing and distribution of import data.

(b) ABI. “ABI” means the Automated Broker Interface and refers to a module of ACS that allows entry filers to transmit immediate delivery, entry and entry summary data electronically to CBP through ACS and to receive transmissions from ACS.

* * * * *

(d) Broker. “Broker” means a customs broker licensed under part 111 of this chapter.

(e) Certification. “Certification” means the electronic equivalent of a signature for data transmitted through ABI. This electronic (facsimile) signature must be transmitted as part of the immediate delivery, entry or entry summary data. Such data are referred to as “certified”.

(f) Data. “Data” when used in conjunction with immediate delivery, entry and/or entry summary means the information required to be submitted with the immediate delivery, entry and/or entry summary, respectively, in accordance with the CATAIR (CBP Publication 552, Customs and Trade Automated Interface Requirements) and/or CBP Headquarters directives. It does not mean the actual paper documents, but includes all of the information required to be in such documents.

(g) Documentation. “Documentation” when used in conjunction with immediate delivery, entry and/or entry summary means the documents set forth in § 142.3 of this chapter, required to be submitted as part of an application for immediate delivery, entry and/or entry summary, but does not include the CBP Forms 7501, 3461 (or alternative forms).

(h) EDIFACT. “EDIFACT” means the Electronic Data Interchange for Administration, Commerce and Transport that provides an electronic capability to transmit detailed CBP Forms 7501 and 3461, and invoice data.

(i) Electronic entry. “Electronic entry” means the electronic transmission to CBP of:

(1) Entry information required for the entry of merchandise; and

(2) Entry summary information required for the classification and appraisement of the merchandise, the verification of statistical information, and the determination of compliance with applicable law.

(j) Electronic immediate delivery. “Electronic immediate delivery” means the electronic transmission of CBP Forms 3461 or 3461 alternate (CBP Form 3461 ALT) data utilizing ACS in order to obtain the release of goods under immediate delivery.

(k) Electronic Invoice Program (EIP). “EIP” refers to modules of the Automated Broker Interface (ABI) that allow entry filers to transmit detailed invoice data and includes Automated Invoice Interface (AII) and any other electronic invoice authorized by CBP.

* * * * *

(o) Selectivity criteria. “Selectivity criteria” means the categories of information that guide CBP's judgment in evaluating and assessing the risk of an immediate delivery, entry, or entry summary transaction. * * *

* * * * *

17. Part 143 is amended by adding a new subpart E, consisting of §§ 143.41 through 143.45, to read as follows:

Subpart E—Remote Location Filing
Sec.
143.41 Applicability.
143.42 Definitions.
143.43 RLF eligibility criteria.
143.44 RLF procedure.
143.45 Filing of additional entry information.

Subpart E—Remote Location Filing

§ 143.41 Applicability.

This subpart sets forth the general requirements and procedures for Remote Location Filing (RLF). RLF entries are subject to the documentation, document retention and document retrieval requirements of this chapter as well as the general entry requirements of parts 141, 142 and 143. Participation in the RLF program is voluntary and at the option of the filer.

§ 143.42 Definitions.

The following definitions, in addition to the definitions set forth in § 143.32 of this part, apply for purposes of this subpart E:

(a) Remote Location Filing (RLF)—“RLF” is an elective method of making entry by which a customs broker with a national permit electronically transmits all data information associated with an entry that CBP can process in a completely electronic data interchange system to a RLF-operational CBP location from a remote location other than where the goods are being entered. (Importers filing on their own behalf may file electronically in any port, subject to ABI filing requirements.)

(b) RLF-operational CBP location—“RLF-operational CBP location” means a CBP location within the customs territory of the United States that is staffed with CBP personnel who have been trained in RLF procedures and who have operational experience with the Electronic Invoice Program (EIP). EIP is defined in § 143.32 of this chapter. A list of all RLF-operational locations is available for viewing on the CBP Internet Web site located at http://www.cbp.gov (type in the search term “Remote Location Filing”).

§ 143.43 RLF eligibility criteria.

(a) Automation criteria. To be eligible for RLF, a licensed customs broker must be:

(1) Operational on the ABI (see 19 CFR part 143, subpart A);

(2) Operational on the EIP prior to applying for RLF; and

(3) Operational on the ACH (or any other CBP-approved method of electronic payment), for purposes of directing the electronic payment of duties, taxes and fees (see 19 CFR 24.25), 30 days before transmitting a RLF entry.

(b) Broker must have national permit. To be eligible for RLF, a licensed customs broker must hold a valid national permit (see 19 CFR 111.19(f)).

(c) Continuous bond. A RLF entry must be secured with a continuous bond.

§ 143.44 RLF procedure.

(a) Electronic transmission of invoice data. For RLF transactions, a customs broker must transmit electronically, using EIP, any invoice data required by CBP.

(b) Electronic transmission of payment. For RLF transactions, a customs broker must direct the electronic payment of duties, taxes and fees through the ACH (see 19 CFR 24.25) or any other method of electronic payment authorized by CBP.

(c) Automation requirements. Only those entries and entry summaries that CBP processes completely in an electronic data interchange system will be accepted for RLF.

(d) Combined electronic entry and entry summary. For RLF transactions, a customs broker must submit to CBP, through ABI or any other electronic interface authorized by CBP, a complete and error-free electronic data transmission constituting the entry summary that serves as both the entry and entry summary.

(e) No line release or immediate delivery entries permitted under RLF. Line release (see 19 CFR, Part 142, Subpart D) or immediate delivery procedures may not be combined with RLF transactions.

(f) Data acceptance and release of merchandise. Data that are complete and error free will be accepted by CBP. If electronic invoice or additional electronic documentation is required, CBP will so notify the RLF filer. If no documentation is required to be filed, CBP will so notify the RLF filer. If CBP accepts the RLF entry (including invoice data) under §§ 143.34-143.36 of this part, the RLF entry will be deemed to satisfy all filing requirements under this part and the merchandise may be released.

(g) Liquidation. The entry summary will be scheduled for liquidation once payment is made under statement processing (see 19 CFR 24.25).

§ 143.45 Filing of additional entry information.

When filing from a remote location, a RLF filer must electronically file all additional information required by CBP to be presented with the entry and entry summary information (including facsimile transmissions) that CBP can accept electronically. If CBP cannot accept additional information electronically, the RLF filer must file the additional information in a paper format at the CBP port of entry where the goods arrived.

Deborah J. Spero,
Acting Commissioner, Bureau of Customs and Border Protection.
Approved: March 15, 2007.
Timothy E. Skud,
Deputy Assistant Secretary of the Treasury.

[FR Doc. 07-1330 Filed 3-22-07; 8:45 am]

BILLING CODE 9111-14-P